NATIONAL SCIENCE FOUNDATION

Agency Information Collection Activities: Comment Request; Office of Integrative Activities

AGENCY: National Science Foundation.

ACTION: Notice.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by December 31, 2024 to be assured consideration. Comments received after that date will be considered to the extent practicable. Send comments to address below.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: Public Engagement with Science Initiative.

OMB Control No.: 3145-New.

Expiration Date of Approval: Not applicable.

Abstract: The Public Engagement with Science Initiative aims to engage the U.S. public in a national conversation on the value of science and engineering. We seek input from a broad cross section of the U.S. public on the questions and issues they would like researchers to address. Data collection, via an open format question, will gather insights from a diverse array of voices across the nation. This Initiative will meaningfully engage a broad cross-section of the U.S. public through external partners, trusted messengers, and a broad array of communication channels. The Initiative will help NSF learn which science and engineering questions resonate most with the public.

Promoting interactions between scientists and non-scientists about what scientists and engineers do and how this affects people's everyday lives will increase public understanding of and interest in science. This will enhance interest in STEM education, workforce development and careers in STEM, and support for science and engineering research, all of which enhance NSF's ability to fulfill its mission to promote the progress of science. This Initiative supports a core value of NSF, promoting inclusion. It is focused on reaching a broad cross-section of the U.S. population, including people and places who have historically been underrepresented in STEM. This Initiative also supports NSF's FY25 budget priorities of inspiring the missing millions and creating opportunities everywhere.

Additionally, several Executive orders (E.O.s) underscore the importance of diversity and inclusion in science and engineering. E.O.s 13583 and 14035 highlight the need for equity in the federal workforce, while E.O. 13985 promotes racial equity across government programs. By aligning with these policies, this initiative aims to ensure diverse representation in STEM fields and incorporate the perspectives of all Americans. Furthermore, the Evidence Act further emphasizes the use of data-driven decision-making and evidence-based practices in federal programs. Data collected from this public engagement initiative can inform NSF's strategies and actions, ensuring they are responsive to the U.S. public needs and perspectives. The Public Engagement with Science Initiative not only advances NSF's mission but also supports the broader federal agenda for equity, inclusion, and representation in science and engineering.

Respondents: Individuals.

Estimated Number of Annual Respondents: Approximately 1-2.5 million.

Burden on the Public: Estimated less than 5 minutes to submit a question. The estimated burden time is approximately 83,000 hours or less.

Dated: October 28, 2024.
Suzanne H. Plimpton,
Reports Clearance Officer, National Science Foundation.

[FR Doc. 2024-25438 Filed 10-31-24; 8:45 am]

BILLING CODE 7555-01-P